FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than September 23, 2002.

A. Federal Reserve Bank of Chicago (Phillip Jackson, Applications Officer) 230 South LaSalle Street, Chicago, Illinois 60690-1414:

1. Merchants & Manufacturers Bancorporation, Inc., New Berlin, Wisconsin, and Merchants Merger Corp., New Berlin, Wisconsin; to merge with Fortress Bancshares, Inc., Westby, Wisconsin, and thereby indirectly acquire Fortress Bank of Westby, Westby, Wisconsin; Fortress Bank, National Association, Houston, Minnesota; and Fortress Bank of Cresco, Cresco, Iowa.

B. Federal Reserve Bank of San Francisco (Maria Villanueva, Consumer Regulation Group) 101 Market Street, San Francisco, California 94105-1579:

1. Sumitomo Mitsui Financial Group, Inc., Tokyo, Japan; to become a bank holding company by acquiring 100 percent of the voting shares of Manufacturers Bank, Los Angeles, California.

In connection with this application, applicant also has applied to acquire SMBC Capital Markets, Inc., New York, New York, and thereby engage in lending activities, pursuant to § 225.28(b)(1) of Regulation Y; acting as a financial or investment advisor, pursuant to § 225.28(b)(6) of Regulation Y; engaging in transactional services for customers, pursuant to § 225.28(b)(7)(v) of Regulation Y; and engaging in investing and trading activities, pursuant to §§ 225.28(b)(8)(ii)(A), (b)(8)(ii)(B); and (b)(8)(ii)(C) of Regulation Y; SMBC Leasing and Finance, Inc., New York, New York, and thereby engage in leasing activities, pursuant to § 225.28(b)(3) of Regulation Y; SMBC Securities, Inc., New York, New York, and thereby engage in agency transactional services for customers, pursuant to §§ 225.28(b)(7)(i), (b)(7)(ii), (b)(7)(iii), and (b)(7)(v) of Regulation Y; Daiwa SB Investments (USA), Ltd., New York, New York, and thereby engage in lending and related activities; financial advisory activities; and investment activities as principal, pursuant to §§ 225.28(b)(2)(vi), (b)(6)(i), and (b)(8)(i) of Regulation Y; and JRI America, Inc., New York, New York, and thereby engage in data processing activities, pursuant to §§ 225.28(b)(14)(i) and (b)(14)(ii) of Regulation Y.

Board of Governors of the Federal Reserve System, August 26, 2002.
Robert deV. Frierson,
Deputy Secretary of the Board.

[FR Doc. 02-22203 Filed 8-29-02; 8:45 am]

BILLING CODE 6210-01-S